DEPARTMENT OF HOMELAND SECURITY

Federal Emergency Management Agency

44 CFR Part 67

[Docket No. FEMA-P-7635]

Proposed Flood Elevation Determinations

AGENCY: Federal Emergency Management Agency, Emergency Preparedness and Response Directorate, Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Mary Jean Pajak, Federal Emergency Management Agency, 500 C Street, SW., Washington, DC 20472, (202) 646-2831.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate has resolved any appeals resulting from this notification.

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This proposed rule is not a significant regulatory action under the criteria of section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of section 2(b)(2) of Executive Order 12778.

List of Subjects in 44 CFR Part 67

Administrative practice and procedure, Flood insurance, Reporting and record keeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding and location of referenced elevation | *Elevation in feet (NGVD): Existing | *Elevation in feet (NGVD): Modified | Communities affected
Solomon River Tributary:
At Union Pacific Railroad | *1,174 | *1,172 | Dickinson County (Unincorporated Areas).
Approximately 4,200 feet upstream of 7th Street | None | *1,189 | City of Solomon.
*National Geodetic Vertical Datum of 1929 (NGVD 29). | ADDRESSES
Unincorporated areas of Dickinson County, Kansas.
Maps are available for inspection at 109 East First Street, Suite 202, Abilene, Kansas.
Send comments to The Honorable Leo Leffert, Commissioner, Dickinson County, PO Box 248, Abilene, Kansas 67410, City of Solomon, Dickinson County, Kansas.
Maps are available for inspection at 116 West Main Street, Solomon, Kansas.
Send comments to The Honorable Michael L. Nusbaum, Mayor, City of Solomon, 116 West Main Street, Solomon, Kansas 67480.
Boggy Bayou:
At confluence with Cypress Bayou | *159 | *160 | Unincorporated Areas of Caddo Parish.
Approximately 3,100 feet downstream of the Southern Pacific Railroad Bridge | *161 | *160
Brush Bayou:
At confluence with Boggy Bayou | *159 | *160 | Unincorporated Areas of Caddo Parish.
Approximately 4,600 feet upstream of Confluence with Boggy Bayou | *159 | *160
Buchanan Bayou:
At confluence with Boggy Bayou | *159 | *160 | Unincorporated Areas of Caddo Parish.
Approximately 5,400 feet upstream of the confluence with Boggy Bayou | *159 | *160
Caddo Lake:
At Caddo Lake Dam | *184 | *181 | Unincorporated Areas of Caddo Parish, Town of Mooringsport, Town of Oil City.
Cypress Bayou:
At Wallace Lake Dam | *159 | *160 | Unincorporated Areas of Caddo Parish, City of Shreveport.
Approximately 300 feet upstream of U.S. Highway 171 Bridge | None | *178
Wallace Lake:
At Wallace Lake Dam | *159 | *160 | Unincorporated Areas of Caddo Parish City of Shreveport.
*National Geodetic Vertical Datum.
Unincorporated Areas of Caddo Parish, Louisiana
Maps are available for inspection at 505 Travis Street, 8th Floor, Shreveport, Louisiana.
Send comments to Mr. Robert C. Brown, Parish President, Caddo Parish, 505 Travis Street, Suite 100, 110 Shreveport, Louisiana 71163.
City of Shreveport, Caddo Parish, Louisiana:
Maps are available for inspection at 505 Travis Street, 3rd Floor, Shreveport, Louisiana.
Send comments to The Honorable Keith Hightower, Mayor, City of Shreveport, 505 Travis Street, PO Box 31109, Shreveport, Louisiana 71130.
Town of Mooringsport, Caddo Parish, Louisiana:
Maps are available for inspection at City Hall, 122 West Croom Street, Mooringsport, Louisiana.
Send comments to The Honorable Lynn R. Porter, Mayor, Town of Mooringsport, 122 West Croom Street, Mooringsport, Louisiana 71060.
Town of Oil City, Caddo Parish, Louisiana:
Maps are available for inspection at 202 Allen Street, Oil City, Louisiana.
Send comments to The Honorable Todd Hopkins, Mayor, Town of Oil City, 202 Allen Street, Oil City, Louisiana 71061.

(Catalog of Federal Domestic Assistance No. 83.100, “Flood Insurance”)
Dated: June 24, 2003.
Anthony S. Lowe,
Mitigation Division Director, Emergency Preparedness and Response Directorate.

[FR Doc. 03-16540 Filed 6-30-03; 8:45 am]

BILLING CODE 6718-04-P